DEPARTMENT OF ENERGY

Federal Energy Regulatory Commission

[Project No. 2242-078]

Eugene Water and Electric Board; Notice of Meeting To Discuss Additional Information Responses

June 6, 2008.

a. Type of Application: New Major License.

b. Project No.: 2242-078.

c. Date Filed: November 24, 2006.

d. Applicant: Eugene Water and Electric Board.

e. Name of Project: Carmen-Smith Hydroelectric Project.

f. Location: On the McKenzie River in Lane and Linn Counties, near McKenzie Bridge, Oregon. The project occupies approximately 560 acres of the Willamette National Forest.

g. Filed Pursuant to: Federal Power Act 16 U.S.C. 791(a)-825(r).

h. Applicant Contact: Randy L. Berggren, General Manager, Eugene Water and Electric Board, 500 East 4th Avenue, P.O. Box 10148, Eugene, OR 97440, (541) 484-2411.

i. Date and Time of Meeting: June 26, 2008, at 1 p.m. EST.

j. Place: This meeting will primarily occur via conference call; however, it is possible to participate in person at the Federal Energy Regulatory Commission (FERC) located in Washington, D.C. See item n. below for obtaining instructions on how to participate in the meeting.

k. FERC Contact: Bob Easton, (202) 502-6045 or robert.easton@ferc.gov.

l. Background and Purpose of Meeting: On November 24, 2006, Eugene Water and Electric Board filed a license application for the Carmen-Smith Project (FERC No. 2242). On October 30, 2007, FERC staff issued a request for additional information. Eugene Water and Electric Board filed its response to the additional information request on April 29, 2008. The purpose of this meeting is to clarify several issues associated with the filing of this information.

m. Proposed Agenda:

1. Introduction of Participants;

2. Response to AIR 1—sources of the fishway operational costs;

3. Response to AIR 15 and 24—the location of roads relative to project boundary and their nexus to the project;

4. Response to AIR 16—effects of the proposed new road on spotted owl habitat;

5. Response to AIR 19—the location of Ice Creek, Trail Bridge, and Lakes End campgrounds and their nexus to the project;

6. Response to AIR 24—acreage of federal lands within the project boundary

7. Other items;

8. Follow-up Actions.

n. All local, state, and federal agencies, Indian tribes, and other interested parties are invited to participate by phone (or in person). Please contact Bob Easton (see item k. for contact information) or Patti Leppert ((202) 502-6034; patricia.leppert@ferc.gov) by June 24, 2008, to RSVP and to receive specific instructions on how to participate in the meeting.

Kimberly D. Bose,
Secretary.

[FR Doc. E8-13417 Filed 6-13-08; 8:45 am]

BILLING CODE 6717-01-P